DEPARTMENT OF TRANSPORTATION

Coast Guard

[USCG-2001-9516]

Secretarial Authorization for Certain Members and Employees of the U.S. Coast Guard To Serve on the Board of Control, Coast Guard Mutual Assistance

AGENCY: Coast Guard, DOT.

ACTION: Notice.

SUMMARY: The Commandant of the Coast Guard, exercising authority delegated by the Secretary of Transportation, has authorized certain military members and employees to serve, without compensation, on the Board of Control of Coast Guard Mutual Assistance, a non-federal military-welfare entity. He has so authorized them for the purpose of providing coordination, oversight, and advice to the management of the Coast Guard's Mutual Assistance Program. Participation of the designated officials in the activities of Coast Guard Mutual Assistance will not extend to participation in day-to-day operations.

Discussion

The Secretary of Transportation, through the Commandant, has authorized the following members and employees of the Coast Guard to serve, without compensation, on the Board of Control of Coast Guard Mutual Assistance [see 10 U.S.C. 1033 and 1589]. Officers: Commandant of the Coast Guard, Admiral James M. Loy, USCG (President); Assistant Commandant for Human Resources, Rear Admiral Fred L. Ames, USCG (Executive Vice President); Captain James E. Evans, USCG (Second Vice President); Lieutenant Commander Anthony J. Vogt, USCG (Treasurer); Chief Warrant Officer Jeffrey M. Alm, USCG (Secretary). Members: Commander Pat Hannifin USCG (Commissioned Officer); Lieutenant Commander Anthony J. Vogt USCG (Commissioned Officer); Petty Officer First Class Jay H. Fowler, USCG (RET), (Retired Member); Master Chief Petty Officer Vincent W. Patton, USCG (Master Chief Petty Officer of the Coast Guard); Chief Warrant Officer Christine B. Figueroa, USCG (Chief Warrant Officer); Senior Chief Petty Officer Mark A. Lewack, USCG (Enlisted, E-7 or above); Petty Officer First Class Petra A. Wolford, USCG (Enlisted, E-6 or below); Petty Officer Third Class Craig E. Trusevitch, USCG (Enlisted, E-6 or below); Ms. Maureen Melton (Civilian employee); Mrs. Jennifer Rechsteiner (Enlisted Person's Spouse); Lieutenant Commander Charles E. Martin, USCG (RET) (USCG Auxiliary); Lieutenant Commander Kevin M. Pratt, USCGR (Reserve); Chief Warrant Officer Jeffrey M. Alm, USCG (Medical and TRICARE Specialist); Lieutenant Carla J. Grantham, USCG (Family Support Specialist); Mrs. Kathleen M. B. Gibson (Commissioned Officer's Spouse), Chief Petty Officer Rockwood Ennis, USCG (Alternate: MCPO-CG); Master Chief Petty Officer Alex Keenan, USCG (Alternate: CPO); Petty Officer First Class Marie F. G. Hope, USCG (Alternate: Enlisted, E-6 or below).

FOR FURTHER INFORMATION CONTACT: For information concerning this notice, contract Mr. Carl Mursch, Coast Guard Mutual Assistance, (202) 267-1566.

Authority: 10 U.S.C. 1033 and 1589; 49 CFR 1.46(ooo)

Dated: March 29, 2001.
F.L. Ames,
Rear Admiral, U.S. Coast Guard, Assistant Commandant for Human Resources.

[FR Doc. 01-10573 Filed 4-27-01; 8:45 am]

BILLING CODE 4910-15-M